DEPARTMENT OF DEFENSE

48 CFR Parts 227 and 252

[DFARS Case 2003-D104]

Defense Federal Acquisition Regulation Supplement; Written Assurance of Technical Data Conformity

AGENCY: Department of Defense (DoD).

ACTION: Final rule.

SUMMARY: DoD has adopted as final, without change, an interim rule amending the Defense Federal Acquisition Regulation Supplement (DFARS) to implement Section 844 of the National Defense Authorization Act for Fiscal Year 2004. Section 844 eliminated the requirement for a contractor to furnish written assurance that technical data delivered to the Government is complete and accurate and satisfies the requirements of the contract.

DATES: Effective November 22, 2004.

FOR FURTHER INFORMATION CONTACT: Ms. Amy Williams, Defense Acquisition Regulations Council, OUSD(AT&L)DPAP(DAR), IMD 3C132, 3062 Defense Pentagon, Washington, DC 20301-3062. Telephone (703) 602-0328; facsimile (703) 602-0350. Please cite DFARS Case 2003-D104.

SUPPLEMENTARY INFORMATION:

A. Background

DoD published an interim rule at 69 FR 31911 on June 8, 2004, to implement Section 844 of the National Defense Authorization Act for Fiscal Year 2004 (Public Law 108-136). Section 844 amended 10 U.S.C. 2320(b) to eliminate the requirement for contractors to furnish written assurance that delivered technical data is complete and accurate and satisfies the requirements of the contract. The interim rule removed the clause at DFARS 252.227-7036, Declaration of Technical Data Conformity, which implemented the previous statutory requirement. Three respondents submitted comments on the interim rule. All respondents supported the rule. One respondent also recommended that the change be made retroactive to reduce paperwork requirements for contracts currently in effect. DoD has made no change to the rule as a result of this comment. The interim rule became effective upon publication, on June 8, 2004. Consistent with FAR 1.108(d), the rule applies to solicitations issued on or after the effective date, but contracting officers may, at their discretion, apply the change to any existing contract with appropriate consideration.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because elimination of the requirement for a contractor to provide written assurance of technical data conformity does not diminish the contractor's obligation to provide technical data that is complete and accurate and in compliance with contract requirements.

C. Paperwork Reduction Act

The information collection requirements of the clause at DFARS 252.227-7036, Declaration of Technical Data Conformity, were previously approved by the Office of Management and Budget under Control Number 0704-0369. Elimination of the clause has reduced estimated annual public reporting burden by 126,886 hours (estimated 507,545 declarations annually at .25 hours per declaration).

List of Subjects in 48 CFR Parts 227 and 252

Government procurement.

Michele P. Peterson,
Executive Editor, Defense Acquisition Regulations Council.

Interim Rule Adopted as Final Without Change

Accordingly, the interim rule amending 48 CFR Parts 227 and 252, which was published at 69 FR 31911 on June 8, 2004, is adopted as a final rule without change.

[FR Doc. 04-25823 Filed 11-19-04; 8:45 am]

BILLING CODE 5001-08-P